NUCLEAR REGULATORY COMMISSION

[NRC-2019-0253]

Final Revision to Branch Technical Position 7-19 Guidance for Evaluation of Defense in Depth and Diversity to Address Common-Cause Failure Due to Latent Design Defects in Digital Safety Systems; Correction

AGENCY: Nuclear Regulatory Commission.

ACTION: Standard review plan-final section revision; issuance; correction.

SUMMARY: The U.S. Nuclear Regulatory Commission (NRC) is correcting a notice that was published in the Federal Register on January 29, 2021, regarding the final revision to Branch Technical Position (BTP) 7-19, “Guidance for Evaluation of Defense in Depth and Diversity to Address Common-Cause Failure Due to Latent Design Defects in Digital Safety Systems.” This action is necessary to correct the Agency Document Access and Management System (ADAMS) Accession number for the staff responses to public comments on the draft version of BTP 7-19.

DATES: The correction takes effect on February 22, 2021.

ADDRESSES: Please refer to Docket ID NRC-2019-0253 when contacting the NRC about the availability of information regarding this document. You may obtain publicly available information related to this document using any of the following methods:

• Federal Rulemaking Website: Go to https://www.regulations.gov and search for Docket ID NRC-2019-0253. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final revision 8 of BTP 7-19, Final Revision to Branch Technical Position 7-19 Guidance for Evaluation of Defense in Depth and Diversity to Address Common-Cause Failure Due to Latent Design Defects in Digital Safety Systems is available in ADAMS under Accession No. ML20339A642.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Mark D. Notich, Office of Nuclear Reactor Regulation, U.S. Nuclear Regulatory Commission, Washington, DC 20555-0001; telephone: 301-415-3053, email: Mark.Notich@nrc.gov.

SUPPLEMENTARY INFORMATION: On January 29, 2021 the NRC issued a notice in the Federal Register for the final revision of BTP 7-19 (86 FR 7577). The notice included the incorrect ADAMS Accession Number for the BTP 7-19, Revision 8, public comment resolution document. This document corrects the ADAMS Accession Number for the BTP 7-19, Revision 8, public comment resolution document. The public comment resolution document is available in ADAMS under Accession No. ML20339A646.

Dated: February 16, 2021.
For the Nuclear Regulatory Commission.
Dennis C. Morey,
Chief, Licensing Project Branch, Division of Operating Reactors, Office of Nuclear Reactor Regulation.

[FR Doc. 2021-03435 Filed 2-19-21; 8:45 am]

BILLING CODE 7590-01-P